DEPARTMENT OF VETERANS AFFAIRS

38 CFR Part 9

RIN 2900-AN39

Servicemembers’ Group Life Insurance-Dependent Coverage

Correction

In rule document E9-27644 beginning on page 59478 in the issue of Wednesday, November 18, 2009, make the following correction:

§9.1 [Corrected]

On page 59479, in §9.1, in the second column, in paragraph (k)(1)(ii)(B), in the first line, “Ff” should read “If”.

[FR Doc. Z9-27644 Filed 11-30-09; 8:45 am]

BILLING CODE 1505-01-D